DEPARTMENT OF THE TREASURY

Office of Foreign Assets Control

Notice of OFAC Sanctions Actions; Sanctions Actions Pursuant to Executive Order 13581

AGENCY: Office of Foreign Assets Control, Treasury.

ACTION: Notice.

SUMMARY: The U.S. Department of the Treasury's Office of Foreign Assets Control (OFAC) is publishing the names of persons whose property and interests in property have been unblocked pursuant to Executive Order 13581 of July 24, 2011, “Blocking Property of Transnational Criminal Organizations.”

DATES: OFAC's actions described in this notice were effective on October 4, 2017.

FOR FURTHER INFORMATION CONTACT: The Department of the Treasury's Office of Foreign Assets Control: Assistant Director for Global Targeting, tel.: 202-622-2420; Assistant Director for Sanctions Compliance & Evaluation, tel.: 202-622-2490; Assistant Director for Licensing, tel.: 202-622-2480, Assistant Director for Regulatory Affairs, tel.: 202-622-4855, or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On October 4, 2017, OFAC removed from the SDN List the persons listed below, whose property and interests in property were blocked pursuant to Executive Order 13581.

Individuals

1. DAVIS, Robert Paul (a.k.a. DAVIS, Paul; a.k.a. DAVIS, Paul Nadin; a.k.a. DAVIS, R. Paul Nadin; a.k.a. DAVIS, Robert; a.k.a. NADIN-DAVIS, Robert Paul), 45 Knock Rushen Scarlett, Castletown, Isle of Man IM9 1TQ, United Kingdom; 69 Buchanan Street, Glasgow, Scotland G1 3HL, United Kingdom; D11, Glyme Court, Oxford Office Village, Langford Lane, Kidlington, Oxon, England OX5 1LQ, United Kingdom; Avondale House, Queens Promenade, Douglas, Isle of Man IM2 4ND, United Kingdom; Parkshot House, 5 Kew Road, Richmond, Surrey TW9 2PR, United Kingdom; 1 Ros Na Greine, Balleycasey, Shannon, Ireland; 1 Ros Na Greinne, Balleycasey, Shannon, Co. Clare, Ireland; 70 Empress Court, Oxford, United Kingdom; 2571 Carling Avenue, Ottawa, Ontario K2B 7H7, Canada; DOB 19 Jan 1956; POB Fulwood, United Kingdom; Passport 460085575 (United Kingdom); alt. Passport VF275682 (Canada); alt. Passport BD103703 (Canada) (individual) [TCO] (Linked To: PACNET AIR; Linked To: PACNET EUROPE; Linked To: PACNET ZAR; Linked To: PACNET INDIA; Linked To: ACCU-RATE CORPORATION; Linked To: CHEXX ITALIA SRL; Linked To: CHEXX INC.; Linked To: COUNTING HOUSE SERVICES LTD.; Linked To: THE PAYMENTS FACTORY LTD.; Linked To: PACNET SERVICES LTD.; Linked To: PACNET SERVICES (IRELAND) LIMITED; Linked To: AEROPAY LIMITED; Linked To: MANX RARE BREEDS LTD.; Linked To: PACNET GROUP).

2. DAY, Rosanne Phyllis (a.k.a. DAY, Rosanne; a.k.a. DRONSFIELD, Rosanne Phyllis), 3928 West 22nd Avenue, Vancouver, British Columbia V65 1K1, Canada; 69 Buchanan Street, Glasgow, Scotland G1 3HL, United Kingdom; Parkshot House, 5 Kew Road, Richmond, Surrey TW9 2PR, United Kingdom; DOB 12 Mar 1968; nationality United Kingdom (individual) [TCO] (Linked To: DEEPCOVE LABS; Linked To: PACNET SERVICES LTD.; Linked To: PACNET ZAR; Linked To: CHEXX INC.; Linked To: PACNET EUROPE; Linked To: PACNET GROUP).

3. HUMPHREYS, Gerard Alphonsus (a.k.a. HUMPHREYS, Gerry), Brittas House, Brittas, County Limerick, Ireland; D11 Glyme Court, Oxford Office Village, Langford Lane, Oxford Oxon OX5 1LQ, United Kingdom; DOB 17 Jul 1958; nationality Ireland; Passport B781829 (Ireland) (individual) [TCO] (Linked To: PACNET AIR; Linked To: PACNET HOLDINGS LIMITED; Linked To: CHEXX INC.; Linked To: PACNET SERVICES (IRELAND) LIMITED; Linked To: AEROPAY LIMITED; Linked To: PACNET EUROPE; Linked To: PACNET GROUP).

Entity

1. MANX RARE BREEDS LTD. (a.k.a. BALLALOAGHTAN FARM), The Barn Ballaloaghtan Kerrowkeil Hamlet, Grenaby IM9 3BB, United Kingdom; Web site www.manxrarebreeds.com [TCO] (Linked To: DAVIS, Robert Paul; Linked To: PACNET GROUP).

U.S. persons are permitted to engage in all lawful transactions with the persons listed above.

Dated: October 4, 2017.
John E. Smith
Director, Office of Foreign Assets Control.

[FR Doc. 2017-22178 Filed 10-12-17; 8:45 am]

BILLING CODE 4810-AL-P